FEDERAL COMMUNICATIONS COMMISSION

47 CFR Part 15

[ET Docket No. 03-237; FCC 03-289]

Interference Temperature Operation

AGENCY: Federal Communications Commission.

ACTION: Proposed rule; correction.

SUMMARY: On January 21, 2004 (69 FR 2863), the Commission published proposed rules in the Notice of Inquiry and Notice of Proposed Rule Making. The Notice of Inquiry requests comment, information and research on a number of issues relating to the development and use of the interference temperature metric and for managing a transition from the current transmitter-based approach to the new interference temperature paradigm. The Notice of Proposed Rule Making proposes technical rules that would establish interference temperature limits and procedures for assessing the interference temperature to permit expanded unlicensed operation. This document contains a correction to the “ET Docket No.”, which was inadvertently published incorrectly.

DATES: Comments must be filed on or before April 5, 2004, and reply comments must be filed on or before May 5, 2004.

FOR FURTHER INFORMATION CONTACT: Gary Thayer (202) 418-2290, John Reed (202) 418-2455, or Ahmed Lahjouji (202) 418-2061, Office of Engineering and Technology.

SUPPLEMENTARY INFORMATION: The Federal Communications Commission published a document proposing to amend part 15 in the Federal Register of January 21, 2004, (69 FR 2863). This document corrects the Federal Register as it appeared. In FR Doc. 04-1192, published on January 21, 2004 (69 FR 2863), the Commission is correcting the docket no. “ET Docket No. 03-327” to reflect the correct docket no. “ET Docket No. 03-237”. In rule FR Doc. 04-1192 published on January 21, 2004 (69 FR 2863), the Commission is correcting ET Docket No. 03-327 to read as ET Docket No. 03-237:

On page 2863, in the second column, ET Docket No. 03-327 is corrected to read as ET Docket No. 03-237.

Federal Communications Commission.
Marlene H. Dortch,
Secretary.

[FR Doc. 04-2639 Filed 2-6-04; 8:45 am]

BILLING CODE 6712-01-P